DEPARTMENT OF DEFENSE

Department of the Army

[Docket ID: USA-2014-0007]

Proposed Collection; Comment Request

AGENCY: Defense Forensics and Biometrics Agency, DoD.

ACTION: Notice.

SUMMARY: In compliance with Section 3506(c)(2)(A) of the Paperwork Reduction Act of 1995, the Defense Forensics and Biometrics Agency (DFBA), announces a proposed public information collection and seeks public comment on the provisions thereof. Comments are invited on: (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 9, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Forensics and Biometrics Agency (DFBA), ATTN: Plans and Policy Division Chief, 2800 Army Pentagon, Washington, DC 20310-2800, or call (703) 571-0506.

SUPPLEMENTARY INFORMATION: Title; Associated Form; And Omb Number: Defense Biometric Identification Records System; OMB Control Number 0702-XXXX.

Needs And Uses: The information collection requirement for the Defense Biometric Identification Records System (IT System name DoD Automated Biometric Identification System (ABIS)/Biometric Enabling Capability (BEC)) is necessary to support the DoD, FBI, DHS, other government agencies, and approved international partners for intelligence, force protection, national security, and law enforcement purposes.

Affected Public: Federal Government, Individuals or households.

Annual Burden Hours: 208,000 (964,018 since system creation).

Number of Respondents: 11,568,220 (total records in the system).

Responses per Respondent: 1.

Average Burden per Response: 5 minutes.

Frequency: On occasion.

The DoD ABIS matches and stores biometric data collected by global U.S. forces during the course of military operations. Data may also be collected for use in field identification and recovery of persons, or their physical remains, who have been captured, detained, missing, prisoners of war (POW), or personnel recovered from hostile control.

Records in the system pertain to military operations conducted by all Combatant Commands (COCOMs) across the globe. Individuals covered include members of the U.S. Armed Forces; Department of Defense (DoD) civilian and contractor personnel; military reserve, Army and Air National Guard personnel; and other individuals requesting access to U.S. installations and facilities. DoD has used the information collected and processed to the Terrorist Screening Center to place individuals on National Watchlists. Without this collection, matching, and sharing of biometric and associate contextual information there would be grave implications to National Security and security of our forces deployed abroad.

Dated: April 3, 2014.
Aaron Siegel,
Alternate OSD Federal Register Liaison Officer, Department of Defense.

[FR Doc. 2014-07822 Filed 4-7-14; 8:45 am]

BILLING CODE 5001-06-P